DEPARTMENT OF COMMERCE

Bureau of Economic Analysis

Bureau of Economic Analysis Advisory Committee Meeting

AGENCY: Bureau of Economic Analysis, U.S. Department of Commerce.

ACTION: Notice of public meeting.

SUMMARY: Pursuant to the Federal Advisory Committee Act, the Bureau of Economic Analysis (BEA) announces a meeting of the Bureau of Economic Analysis Advisory Committee. The meeting will address proposed improvements, extensions, and research related to BEA's economic accounts. In addition, the meeting will include an update on recent statistical developments.

DATES: Friday, May 15, 2020. The meeting begins at 10:00 a.m. and adjourns at 1:00 p.m.

ADDRESSES: The safety and well-being of the public, committee members and staff is the bureau's top priority. In light of the travel restrictions and social-distancing requirements resulting from the COVID-19 outbreak, this meeting will be held virtually.

FOR FURTHER INFORMATION CONTACT: Gianna Marrone, Program Analyst, U.S. Department of Commerce, Bureau of Economic Analysis, Suitland, MD 20746; phone (301) 278-9282.

Public Participation: This meeting is open to the public. Anyone planning to attend the meeting must contact Gianna Marrone at BEA (301) 278-9282 or gianna.marrone@bea.gov. The call in number, access code, and presentation link will be posted 24 hours prior to the meeting on https://www.bea.gov/about/bea-advisory-committee. The meeting is accessible to people with disabilities. Requests for foreign language interpretation or other auxiliary aids should be directed to Gianna Marrone at (301) 278-9282 by May 8, 2020.

SUPPLEMENTARY INFORMATION: The Committee was established September 2, 1999. The Committee advises the Director of BEA on matters related to the development and improvement of BEA's national, regional, industry, and international economic accounts, with a focus on new and rapidly growing areas of the U.S. economy. The committee provides recommendations from the perspectives of the economics profession, business, and government.

Dated: April 15, 2020.
Shaunda Villones,
Designated Federal Officer, Bureau of Economic Analysis.

[FR Doc. 2020-08972 Filed 4-27-20; 8:45 am]

BILLING CODE 3510-06-P